DEPARTMENT OF ENERGY

Federal Energy Regulatory Commission

[Docket No. RP03-435-002]

Texas Gas Transmission, LLC; Notice of Compliance Filing

October 7, 2003.

Take notice that on October 3, 2003, Texas Gas Transmission, LLC (Texas Gas), tendered for filing as part of its FERC Gas Tariff, Second Revised Volume No. 1, the tariff sheets as indicated on Appendix A to the filing, to be effective July 1, 2003.

Texas Gas states that this is an administrative filing. Texas Gas also states that the purpose of the filing is to submit tariff sheets already accepted by the Commission for incorporation into Texas Gas FERC Gas Tariff, Second Revised Volume No. 1.

Texas Gas states that copies of the tariff sheets are being mailed to all parties on the official service list in this docket, to Texas Gas' official service list, to Texas Gas' jurisdictional customers, and to interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: October 15, 2003.

Linda Mitry,
Acting Secretary.

[FR Doc. 03-26062 Filed 10-14-03; 8:45 am]

BILLING CODE 6717-01-P